DEPARTMENT OF HOMELAND SECURITY

Office of the Secretary

[Docket No. DHS-2009-0146]

Privacy Act of 1974; Department of Homeland Security Citizenship and Immigration Services Ombudsman-001 Virtual Ombudsman System of Records

AGENCY: Privacy Office, DHS.

ACTION: Notice of Privacy Act system of records.

SUMMARY: In accordance with the Privacy Act of 1974, the Department of Homeland Security is giving notice that it proposes to establish a new Department of Homeland Security system of records notice titled, “Department of Homeland Security Citizenship and Immigration Services Ombudsman-001 Virtual Ombudsman System of Records.” This system of records will ensure the efficient and secure processing of information to aid the Citizenship and Immigration Services Ombudsman in providing assistance to individuals, employers, and their representatives in resolving problems with U.S. Citizenship and Immigration Services; identify areas in which individuals, employers, and their representatives have problems working with U.S. Citizenship and Immigration Services; and to the extent possible, propose changes to mitigate problems pursuant to 6 U.S.C. 272. This newly established system will be included in the Department of Homeland Security's inventory of record systems.

DATES: Submit comments on or before May 13, 2010. This new system will be effective May 13, 2010.

ADDRESSES: You may submit comments, identified by docket number DHS-2009-0146 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Raymond Mills (202-357-8100), Privacy Point of Contact, Office of the Citizenship and Immigration Services Ombudsman, Department of Homeland Security, Washington, DC 20528. For privacy issues please contact: Mary Ellen Callahan (703-235-0780), Chief Privacy Officer, Privacy Office, Department of Homeland Security, Washington, DC 20528.

SUPPLEMENTARY INFORMATION:

I. Background

Pursuant to the Privacy Act of 1974, (5 U.S.C. 552a), the Department of Homeland Security (DHS) Citizenship and Immigration Services Ombudsman (CISOMB) is giving notice that it proposes to establish a new DHS system of records notice titled, “DHS/CISOMB-001 Virtual Ombudsman System of Records.” This system of records will ensure the efficient and secure processing of information to aid the CISOMB in providing assistance to individuals, employers, and their representatives in resolving problems with U.S. Citizenship and Immigration Services (USCIS); identify areas in which individuals, employers, and their representatives have problems working with USCIS; and to the extent possible, propose changes to mitigate problems pursuant 6 U.S.C. 272.

CISOMB has developed the DHS/CISOMB-001 Virtual Ombudsman System of Records to ensure the efficient and secure processing of information and to aid the Ombudsman in assisting individuals and employers in making systemic recommendations to USCIS. The core of the DHS/CISOMB-001 Virtual Ombudsman System of Records is CISOMB's Web form 7001 which is a user interface Web-based form which will automatically convert information submitted by an individual or employer into a case within CISOMB's account within Internet Quorum/Enterprise Correspondence Tracking (IQ/ECT) system. IQ/ECT is the Department's enterprise-wide correspondence and case management tracking system. This system allows the Department's headquarters and components to manage cases and resolve issues in a coordinated and timely manner. For more information on IQ/ECT, please view the Enterprise Correspondence Tracking System PIA at http://www.dhs.gov/privacy. The system also enables CISOMB to segregate data into several categories to generate internal reports, provide customized feedback to individuals and employers, and supply real-time aggregated statistical information for the CISOMB to assist individuals and employers with their problems with USCIS.

The purpose of this system is to provide efficient and secure case management and processing of information related to individuals and employers problems allowing the Ombudsman to make systemic recommendations to USCIS. The Department's authority for this collection is primarily Section 452 of the Homeland Security Act of 2002. This system will collect individuals' personal information to support the Ombudsman's efforts to make recommendations to USCIS pursuant to 6 U.S.C. 272. Efforts have been made to safeguard records in accordance with applicable rules and policies, including all applicable DHS automated systems security and access policies. Strict controls have been imposed to minimize risk of compromising the information that is being stored. Access to the computer system containing the records in this system is limited to those individuals who have a need to know the information for the performance of their official duties and who have appropriate clearances or permissions. The routine uses posted cover sharing with the Department of Justice for legal representation; to Congress at the request of a constituent; to the National Archives and Records Administration for records retention and disposal; to agencies, organizations, and individuals for purposes of audit as well as for security breaches; to contractors of the Department in performance of their contractual duties; to appropriate agencies and entities for investigations and prosecutions; and to an attorney or representative who is acting on behalf of an individual. This system collects information under the Paperwork Reduction Act using the following form: DHS Form 7001, Case Problem Submission Worksheet and Supporting Statement Case Problem Submission, OMB Control Number 1601-0004, Expiration Date 01/01/2013.

This newly established system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to their records are put, and to assist individuals to more easily find such files within the agency. Below is the description of the DHS/CISOMB-001 Virtual Ombudsman System of Records.

In accordance with 5 U.S.C. 552a(r), DHS has provided a report of this system of records to the Office of Management and Budget and to Congress.

System of Records:

DHS/CISOMB-001

System name:

Citizenship and Immigration Services Ombudsman—001 Virtual Ombudsman System of Records.

Security classification:

Unclassified.

System location:

Records are maintained at Citizenship and Immigration Services Ombudsman Headquarters in Washington, DC.

Categories of individuals covered by the system:

Categories of individuals covered by this system include: any member of the general public, including individuals, employers, and their representatives seeking assistance from the Citizenship and Immigration Services Ombudsman in resolving general matters, issues, or problems with USCIS.

Categories of records in the system:

Categories of records in this system include:

• Individual's full legal name including any aliases;

• Individual's date and country of birth;

• Individual's legal citizenship;

• Individual's alien (“A”) number;

• Full legal name of person preparing form if other than the individual named in the case;

• Applications and petitions filed;

• Receipt number located on the top left hand corner of Notice of Action (Form I-797) received from USCIS in response to the application/petition filed;

• Immigration status or interim benefit applied or petitioned for;

• Type of case problem;

• Source of case problem;

• Description of case problem;

• Prior actions taken to remedy the problem;

• Designated attorney/representative;

• Consent of the petitioner for USCIS to disclose information in the file to the designated representative;

• Verification statement signed and dated by the individual of the inquiry or the authorized representative; and

• Declaration by the individual or the attorney or representative submitting the case problem.

Authority for maintenance of the system:

Section 452 of the Homeland Security Act of 2002.

Purpose(s):

The purpose of this system is to provide efficient and secure case management and processing of information related to individuals and employers problems with USCIS.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3), and in accordance with 6 U.S.C. 272, as follows:

A. To the Department of Justice (including United States Attorney Offices) or other federal agency conducting litigation or in proceedings before any court, adjudicative or administrative body, when it is necessary to the litigation and one of the following is a party to the litigation or has an interest in such litigation:

1. DHS or any component thereof;

2. any employee of DHS in his/her official capacity;

3. any employee of DHS in his/her individual capacity where DOJ or DHS has agreed to represent the employee; or

4. the United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish a CISOMB function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To an attorney or representative who is acting on behalf of an individual covered by this system of records to obtain the individual's information submitted to the Virtual Ombudsman System.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by CISOMB Case Number, Alien Registration Number, or by the individuals' name.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

In accordance with National Archives and Records Administration approved retention and disposal policy N1-563-08, processed case files are cut off at the final disposition of the case and are deleted or destroyed ten years after cutoff. Uncompleted case files are the record copy of cases where additional information is requested, but not received. Cases are closed 30 days after the request for additional information. These records are cut off 30 days from date of request if no response, and are deleted or destroyed 5 years after cutoff.

System Manager and address:

CISOMB VOS Project Manager (202-357-8100), Office of the Citizenship and Immigration Services Ombudsman, Department of Homeland Security, Washington, DC 20528.

Notification procedure:

Individuals seeking notification of and access to any record contained in this system of records, or seeking to contest its content, may submit a request in writing to the CISOMB's FOIA Officer, whose contact information can be found at http://www.dhs.gov/foia under “contacts.” When seeking records about yourself from this system of records or any other Departmental system of records your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief FOIA Officer at http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Information originates from stakeholders and customers who contact the CISOMB.

Exemptions claimed for the system:

None.

Dated: March 19, 2010.
Mary Ellen Callahan,
Chief Privacy Officer, Department of Homeland Security.

[FR Doc. 2010-8313 Filed 4-12-10; 8:45 am]

BILLING CODE 9110-9B-P